FEDERAL COMMUNICATIONS COMMISSION

47 CFR Part 73

[DA-1413, MM Docket No. 99-252; RM-9648]

Digital Television Broadcast Service; Las Vegas, NV

AGENCY: Federal Communications Commission.

ACTION: Final rule.

SUMMARY: The Commission, at the request of Journal Broadcast Corporation, licensee of Station KTNV, Las Vegas, Nevada, substitutes DTV Channel 12 for DTV Channel 17 at Las Vegas, Nevada. See 64 FR 38621, July 19, 1999. DTV Channel 12 can be allotted to Las Vegas at coordinates (35-56-43 N. and 115-02-32 W) with a power of 26.4, HAAT of 610 meters and with a DTV service population of 738 thousand.

With this action, this proceeding is terminated.

DATES: Effective August 14, 2000.

FOR FURTHER INFORMATION CONTACT: Pam Blumenthal, Mass Media Bureau, (202) 418-1600.

SUPPLEMENTARY INFORMATION: This is a synopsis of the Commission's Report and Order, MM Docket No. 99-252, adopted June 26, 2000, and released June 29, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334. 336.

§ 73.622 [Amended]

2. Section 73.622(b), the Table of Digital Television Allotments under Nevada, is amended by removing DTV Channel 17 and adding DTV Channel 12 at Las Vegas.

Federal Communications Commission.
Barbara A. Kreisman,
Chief, Video Services Division, Mass Media Bureau.

[FR Doc. 00-16776 Filed 6-30-00; 8:45 am]

BILLING CODE 6712-01-P